DEPARTMENT OF COMMERCE

National Oceanic and Atmospheric Administration

RIN 0648-XO53

Caribbean Fishery Management Council; Scoping Meetings

AGENCY: National Marine Fisheries Service (NMFS), National Oceanic and Atmospheric Administration (NOAA), Commerce.

ACTION: Notice of Scoping Meetings.

SUMMARY: The Caribbean Fishery Management Council will hold scoping meetings to obtain input from fishers, the general public, and the local agencies representatives on the Document for Amendment 2 to the Fishery Management Plan for the Queen Conch Fishery of Puerto Rico and the U.S. Virgin Islands and Amendment X to the Reef Fish Fishery Management Plan of Puerto Rico and the U.S. Virgin Islands (Including the Final Environmental Impact Statement, Regulatory Impact Review, and Initial Regulatory Flexibility Analysis).

DATES AND ADDRESSES: The scoping meetings will be held on the following dates and locations:

April 27, 2009, DoubleTree by Hilton San Juan, De Diego Avenue, San Juan, Puerto Rico

April 28, 2009, Holiday Inn and Tropical Casino Ponce, 3315 Ponce By Pass, Ponce, Puerto Rico

April 29, 2009, Salón B, Centro de Usos Múltiples, Doctor López and Celís Aguilera St., Fajardo, Puerto Rico

May 4, 2009, Mayaguez Resort and Casino, Rd. 104, Km. 0.3, Mayaguez, Puerto Rico

May 6, 2009, Community Center, Frenchtown, St. Thomas, U.S. Virgin Islands

May 7, 2009, The Florence Williams Public Library, 1122 King Street, Christiansted, St. Croix, U.S. Virgin Islands.

All meetings will be held from 7:00 p.m. to 10:00 p.m.

FOR FURTHER INFORMATION CONTACT: Caribbean Fishery Management Council, 268 Muñoz Rivera Avenue, Suite 1108, San Juan, Puerto Rico 00918-1920, telephone (787) 766-5926.

SUPPLEMENTARY INFORMATION: The Caribbean Fishery Management Council will hold Scoping meetings to receive public input on the following management alternatives:

4.0 MANAGEMENT ALTERNATIVES

The Management Alternatives for setting Annual Catch Limits (ACLs) for 4 species and species groups are presented below. The species groups for which Annual Catch Limits have to be set by 2010 are shown in the table below and include the Snapper Unit 1, Grouper Unit 4, parrotfish and queen conch. One species not discussed in the actions is Nassau grouper, which is undergoing overfishing and therefore, would require an ACL by 2010. No action is discussed for Nassau grouper because current regulations exist which prohibit the take of Nassau grouper in the U.S. Caribbean (both from the EEZ and state waters). Because of this prohibition on take, no further action is required to end or prevent overfishing. Similar to Nassau grouper, queen conch management alternatives are only discussed for the fishery in St. Croix. This is a result of current regulations in the U.S. Caribbean which prohibit the take of queen conch in the EEZ off Puerto Rico and St. Thomas/St. John.

Other actions among the Management Alternatives include methods for modifying the reef fish FMU, setting recreational ACLs, methods for accounting for uncertainty, alternative methods for setting ACLs based on proxies for reducing fishing mortality, accountability measures, monitoring and enforcement, permits, and allowable fishing gear.

4.1 Action 1: Amending the Stock Complexes in the Reef Fish Fishery Management Unit

Alternative 1. No Action. Do not change the stock complexes in the Reef Fish FMU

Alternative 2. Modify the FMU by:

Sub-alternative A. Separating the Parrotfish Unit into 2 complexes. Parrotfish Unit 1 would include princess, queen, redfin, redtail, stoplight, redband, and striped parrotfishes and Parrotfish Unit 2 would include blue, midnight, and rainbow parrotfishes

Sub alternative B. Separate Grouper Unit 4 into 2 complexes and add black grouper to Grouper Unit 4. Grouper Unit 4 would include yellowfin, red, tiger, and black grouper and Grouper Unit 5 would include yellowedge and misty grouper.

Sub alternative C. Add cardinal snapper (Pristipomoides macrophthalmus) to Snapper Unit 2 (with the queen snapper) and move wenchman (Pristopomoides aquilonaris) into Snapper Unit 1.

Alternative 3. Examine reef fish FMU and reassign species not targeted, retained, sold, or used for personal consumption as ecosystem component species.

Complex | Current | Proposed
Snapper Unit 1 | Silk Black Blackfin Vermilion | Silk Black Blackfin Vermilion Wenchman (Pristopomoides aquilonaris)
Snapper Unit 2 | Queen Wenchman (Pristopomoides aquilonaris) | Queen Cardinal (Pristopomoides macrophthalmus)
Snapper Unit 3 | Gray Lane Mutton Dog Schoolmaster Mahogany | Gray Lane Mutton Dog Schoolmaster Mahogany
Snapper Unit 4 | Yellowtail Snapper | Yellowtail Snapper
Grouper Unit 3 | Red hind Coney Rock hind Graysby Creole-fish | Red hind Coney Rock hind Graysby
Grouper Unit 4 | Yellowfin Red Tiger Yellowedge Misty | Yellowfin Red Tiger Black
Grouper Unit 5 |  | Yellowedge Misty
Parrotfish | Blue Midnight Princess Queen Rainbow Redfin Redtail Stoplight Redband Striped | Princess Queen Redfin Redtail Stoplight Redband Striped
Parrotfish Unit 2 |  | Blue Midnight Rainbow

4.2 Action 2: Annual Catch Limits for queen conch (Strombus gigas) off St. Croix

Alternative 1. Do not set an ACL for queen conch off St. Croix

Alternative 2. Set the ACL for queen conch off St. Croix equal to:

Sub alternative A. Zero for the EEZ and do not establish a state water ACL.

Sub alternative B. The average landings during 1994-2006 = 90,000 pounds. The ACL would include both state and federal water landings.

Sub alternative C. The current allowable catch level established by the U.S.V.I. government for St. Croix = 50,000 pounds. The ACL would include both state and federal water landings. The season for queen conch would run from November 1 - June 30, or until such time the ACL is met; additionally, there would be a 200 conch per boat limit.

Sub alternative D. Zero in the EEZ. The state waters ACL would be set equal to the current allowable catch level established by the U.S.V.I. government for St. Croix = 50,000 pounds.

4.3 Action 3: Annual Catch Limits for Parrotfish Unit 1 and Parrotfish Unit 2

Alternative 1. No Action.

Sub Alternative A. Do not set an ACL for Parrotfish Unit 1 or Parrotfish Unit 2.

Sub Alternative B. Do not establish an ACL for Parrotfish Unit 2, but include Parrotfish Unit 2 in the ACL for Parrotfish Unit 1.

Alternative 2. For Parrotfish Unit 2:

Sub alternative A. Set the ACL equal to zero in the EEZ and do not establish a state water ACL but rely on the data collection program described later in this document and revisit ACL for parrotfish 5 years after implementation.

Sub alternative B. Set the ACL equal to zero in the EEZ and recommend to Puerto Rico and the U.S.V.I. that the ACL be set equal to zero in state waters.

Alternative 3. Set the ACL for Parrotfish Unit 1 off Puerto Rico equal to:

Sub alternative A. Zero for the EEZ and do not establish a state water ACL, but rely on the data collection program described later in this document and revisit ACL for parrotfish five years after implementation.

Sub alternative B. The average landings during 1999-2006 = 80,000 pounds (ACLG February 2009 recommendation)

Sub alternative C. The average landings during 1994-2006 multiplied by an uncertainty scalar (see Action 7 for uncertainty scalar).

Alternative 4. Set the ACL for Parrotfish Unit 1 off St. Thomas/St. John equal to:

Sub alternative A. Zero for the EEZ and do not establish a state water ACL, but rely on the data collection program described later in this document and revisit ACL for parrotfish five years after implementation.

Sub alternative B. The average landings during 1999-2006 = 50,000 pounds (ACLG February 2009 recommendation)

Sub alternative C. The average landings during 1994-2006 multiplied by an uncertainty scalar (see Action 7 for uncertainty scalar).

Alternative 5. Set the ACL for Parrotfish Unit1 off St. Croix equal to:

Sub alternative A. Zero for the EEZ and do not establish a state water ACL, but rely on the data collection program described later in this document and revisit ACL for parrotfish five years after implementation.

Sub alternative B. The average landings during 1999-2006 = 250,000 pounds (ACLG February 2009 recommendation)

Sub alternative C. The average landings during 1994-2006 multiplied by an uncertainty scalar (see Action 7 for uncertainty scalar).

Sub alternative D. The average landings during 1976-1990 = 82,000 pounds (discussed at the ACLG and SSCFebruary 2009 meeting).

Sub alternative E. The average landings during 1983-1990 = 82,000 pounds (SEFSC recommended time frame for pre-gillnet fishery).

Alternative 6. Set the ACL for Parrotfish Unit1 in the U.S. Caribbean equal to:

Sub alternative A. Zero for the EEZ and do not establish a state water ACL, but rely on the data collection program described later in this document and revisit ACL for parrotfish five years after implementation.

Sub alternative B. The average landings during 1999-2006 = 380,000 pounds

Sub alternative C. The average landings during 1994-2006 multiplied by an uncertainty scalar (see Action 7 for uncertainty scalar).

4.4 Action 4: Annual Catch Limits for Grouper Unit 4

Alternative 1. No Action. Do not set an ACL for Grouper Unit 4

Alternative 2. Set the ACL for Grouper Unit 4 off Puerto Rico equal to:

Sub alternative A. Zero in the EEZ and do not establish a state water ACL, but rely on the data collection program described later in this document and revisit ACL for Grouper Unit 4 five years after implementation.

Sub alternative B. The average corrected landings for identified Grouper Unit 4 species during 1994-2006 = 10,000 pounds. The ACL would include both state and federal water landings.

Sub alternative C. The average corrected landings for identified Grouper Unit 4 species during 1994-2006 plus the average proportional corrected landings estimate for Grouper Unit 4 species landed in the generic “Sea Basses” category during 1994-2006 = 15,000 pounds.

Sub alternative D. A sufficient level of catch for collecting needed data on the fishery. This catch level would be established by SEFSC, in cooperation with Puerto Rico, for purposes of scientific data collection.

Alternative 3. Set the ACL for Grouper off St. Thomas/St. John at:

Sub alternative A. Zero for the EEZ off St. Thomas/St. John and do not establish a state water ACL, but rely on the data collection program described later in this document and revisit ACL for Grouper Unit 4 five years after implementation.

Sub alternative B. The average landings during 1994 - 2006 for all grouper species = 61,000 pounds as part of a grouper ACL

Sub alternative C. The average landings during 1994 - 2006 for all grouper species multiplied by an uncertainty scalar (see Action 7 for uncertainty scalar).

Alternative 4. Set the ACL for grouper off St. Croix at:

Sub alternative A. Zero for the EEZ off St. Croix and do not establish a state water ACL, but rely on the data collection program described later in this document and revisit ACL for Grouper Unit 4 five years after implementation.

Sub alternative B. The average landings during 1994 - 2006 for all grouper species = 32,000 pounds as part of a grouper ACL

Sub alternative C. The average landings during 1994 - 2006 for all grouper species multiplied by an uncertainty scalar (see Action 7 for uncertainty scalar).

Alternative 5. Set the ACL for grouper in the U.S. Caribbean equal to:

Sub alternative A. Zero for the EEZ and do not establish a state water ACL, but rely on the data collection program described later in this document and revisit ACL for parrotfish five years after implementation.

Sub alternative B. The average landings during 1999-2006 = 203,000 pounds

Sub alternative C. The average landings during 1994-2006 multiplied by an uncertainty scalar (see Action 7 for uncertainty scalar).

4.5 Action 5: Annual Catch Limits for Snapper Unit 1

Alternative 1. No Action. Do not set an ACL for Snapper Unit 1

Alternative 2. Set the ACL for Snapper Unit 1 off Puerto Rico equal to:

Sub alternative A. Zero for the EEZ and do not establish a state waters ACL, but rely on the data collection program described later in this document and revisit ACL for Snapper Unit 1 five years after implementation.

Sub alternative B. The average corrected landings for identified Snapper Unit 1 species during 1999-2006 = 300,000 pounds

Sub alternative C. The average corrected landings for identified silk snapper during 1999-2006 = 200,000 pounds for silk snapper. Silk snapper would be the indicator species for Snapper Unit 1.

Sub alternative D. The Average landings for 1999-2006 for the current Snapper Unit 1 plus the average landings for wenchman for 1999-2006 = 300,000 pounds

Sub alternative E. The Average landings for 1994-2006 for the current Snapper Unit 1 plus the average landings for wenchman for 1994-2006 = 355,000 pounds

Sub alternative F. The average 1999-2006 landings for identified Snapper Unit 1 species plus the average landings for wenchman during 1999-2006 plus the average proportional corrected landings estimate for Snapper Unit 1 species landed in the generic “Snapper” category during 1999-2006 = 316,000 pounds.

Sub alternative G. The average 1994-2006 landings for identified Snapper Unit 1 species plus the average landings for wenchman during 1994-2006 plus the average proportional corrected landings estimate for Snapper Unit 1 species landed in the generic “Snapper” category during 1994-2006 = 374,000 pounds.

Sub alternative H. 1.2 times the value selected from sub alternative B-G.

Alternative 3. Set the ACL for snapper off St. Thomas/St. John at:

Sub alternative A. Zero for the EEZ off St. Thomas/St. John and do not establish a state waters ACL, but rely on the data collection program described later in this document and revisit ACL for Snapper Unit 1 five years after implementation.

Sub alternative B. The average landings during 1994 - 2006 for all snapper species =160,000 pounds as part of a Snapper ACL

Sub alternative C. The average landings during 1994 - 2006 for all snapper species multiplied by an uncertainty scalar (see Action 7 for uncertainty scalar).

Alternative 4. Set the ACL for snapper off St. Croix at:

Sub alternative A. Zero for the EEZ off St. Croix and do not establish a state waters ACL, but rely on the data collection program described later in this document and revisit ACL for Snapper Unit 1 five years after implementation.

Sub alternative B. The average landings during 1994 - 2006 for all snapper species =112,000 pounds

Sub alternative C. The average landings during 1994 - 2006 for all grouper species multiplied by an uncertainty scalar (see Action 7 for uncertainty scalar).

Alternative 5. Set the ACL for snapper in the U.S. Caribbean equal to:

Sub alternative A. Zero for the EEZ off St. Croix and do not establish a state waters ACL, but rely on the data collection program described later in this document and revisit ACL for Snapper Unit 1 five years after implementation.

Sub alternative B. The average landings during 1994 - 2006 for all snapper species =1,529,000 pounds

Sub alternative C. The average landings during 1994 - 2006 for all snapper species multiplied by an uncertainty scalar (see Action 7 for uncertainty scalar).

4.6 Action 6: Annual Catch Limits for the Recreational Sector

Alternative 1. No Action. Do not set ACLs for the Recreational Sector

Alternative 2. Use Puerto Rico recreational average landings data from MRFSS during 2000-2007 to set recreational ACLs in the EEZ and state waters of Puerto Rico for Snapper Unit 1, Grouper Unit 4, and Parrotfishes. Use the proportion of Puerto Rican recreational landings relative to the total of recreational and commercial Puerto Rican landings to set an ACL proxy in the EEZ and state waters for the USVI Recreational Fishery. For the USVI, proportions would be assigned to fish family (e.g., groupers, snappers, parrotfishes), until sufficient landings data are available to specify ACLs by unit. ACLs would equal zero for queen conch in the EEZ off St. Thomas/St. John and Puerto Rico; the recreational ACL for queen conch in the EEZ off St. Croix would be XXX (will depend on Council's choice for commercial ACL in St. Croix). All island based recreational ACLs for Nassau grouper would equal zero.

Alternative 3. Use Puerto Rico recreational average landings data from MRFSS during 2000-2007 to set recreational ACLs in the EEZ and state waters for Snapper Unit 1, Grouper Unit 4, and Parrotfishes. Use the proportion of Puerto Rican recreational landings relative to the total of recreational and commercial Puerto Rican landings to set an ACL proxy in the EEZ.

Alternative 4. Do not establish a recreational ACL in the USVI EEZ and state waters, but use the Commercial ACL for each unit or family as a proxy for the ACL for all sectors in the fishery.

Alternative 5. Set the recreational ACL in the USVI equal to 10% of each islands commercial ACL.

Alternative 6. Establish a separate charter boat sector ACL based on MRFSS data for Puerto Rico.

4.7 Action 7: Accounting for Uncertainty

Alternative 1. No Action. Set the ACL at the level specified in the previous actions

Alternative 2. In the USVI, for ACLs based on average catch, use:

Sub alternative A. 90% of the specified level in the previous actions to adjust for uncertainty.

Sub alternative B. 75% of the specified level in the previous actions to adjust for uncertainty (recommendation from the national SSC meeting).

Sub alternative C. 70% of the specified level in the previous actions to adjust for uncertainty.

Sub Alternative D. 50% of the specified level in the previous actions to adjust for uncertainty (recommendation from the national SSC meeting).

Alternative 3. In Puerto Rico, use:

Sub alternative A. 82% of the specified level in the previous actions to adjust for uncertainty (based on the ratio of the reported landings versus the 85% CI for calculated landings in Puerto Rico across all species groups by year).

Sub alternative B. 78% of the specified level in the previous actions to adjust for uncertainty (based on the ratio of the reported landings versus the 90% CI for calculated landings in Puerto Rico across all species groups by year).

Sub alternative C. 75% of the specified level in the previous actions to adjust for uncertainty (based on the ratio of the reported landings versus the 95% CI for calculated landings in Puerto Rico across all species groups by year).

4.8 Action 8: Alternative Methods for Reducing Fishing Mortality and Establishing ACL Proxies

Alternative 1. No Action. Do not implement alternative methods for reducing fishing mortality by establishing proxies for ACLs

Alternative 2. Extend Area Closures in the U.S. Caribbean EEZ to account for 40% of fishable bottom in the EEZ

Alternative 3. Extend Area Closures in the U.S. Caribbean EEZ to account for 30% of fishable bottom in the EEZ

Alternative 4. Extend Area Closures in the U.S. Caribbean EEZ to account for XX% of fishable bottom in the EEZ as determined by the SEFSC

Alternative 5. Work with fishermen to develop measure to reduce fishing effort towards F=Fmsy.

4.9 Action 9: Permits

Alternative 1. No Action. Do not establish a permit system for fishing in the EEZ

Alternative 2. Require a federal permit for fishing in the EEZ.

Sub Alternative A. Require a federal permit for recreational fishing in the EEZ.

Sub Alternative B. Require a federal permit for commercial fishing in the EEZ.

Sub Alternative C. Require the use of trap tags for all (lobster and fish) trap fisheries in the EEZ.

Sub Alternative D. Require a federal permit for charter boats fishing in the EEZ.

Alternative 3. Require a federal permit to sell Council managed species.

Alternative 4. Require a federal permit to purchase Council managed species.

4.10 Action 10: Monitoring and Enforcement of Annual Catch Limits

Alternative 1. No Action. Set the ACL at the level specified in the previous actions.

Alternative 2. Require any person landing Council managed species to submit an appropriate data collection form, as developed by the SEFSC or the Council's SSC, after every trip with enough detail such that CPUE per species can be calculated for each gear.

Alternative 3. Require any federal permit holder to submit an appropriate data collection form, as developed by the SEFSC or the Council's SSC, after every trip with enough detail such that CPUE per species can be calculated for each gear.

Alternative 4. Develop an updated catch report form in coordination with the SEFSC, local and territorial governments, fishermen, and the Council's SSC which has enough detail such that CPUE per species can be calculated for each gear.

4.11 Action 11: Accountability Measures

Alternative 1. No Action. Do not establish Accountability Measures.

Alternative 2. Implement accountability measures for exceeding an ACL based on:

Sub alternative A. A single year of landings/catch.

Sub alternative B. A 2-year average of landings/catch.

Sub alternative C. A 3-year average of landings/catch.

Alternative 3. Reduce the fishing season in the following year by a length determined to be appropriate to account for exceeding the ACL.

Alternative 4. Increase the size of closed areas as identified in Action 9 by an appropriate amount to account for exceeding the ACL.

Alternative 5. For queen conch exceedences in St. Croix, close the EEZ to queen conch harvest.

Alternative 6. Reduce the ACL in the subsequent fishing year by an amount equal to an overage in the previous year.

4.12 Action 12: Allowable Gear for Reef Fish

Alternative 1. No Action. Do not alter allowable gear in the U.S. Caribbean

Alternative 2. Review the list of allowable gear under 50 CFR 600.725

4.13 Action 13: Establish Framework Measures for ACLs and AMs in the Reef Fish FMP.

Alternative 1. No Action. Do not establish a framework for ACLs and AMs

Alternative 2. Establish a framework procedure for setting and adjusting ACLs and AMs

Special Accommodations

These meetings are physically accessible to people with disabilities. For more information or request for sign language interpretation and other auxiliary aids, please contact Mr. Miguel A. Rolón, Executive Director, Caribbean Fishery Management Council, 268 Muñoz Rivera Avenue, Suite 1108, San Juan, Puerto Rico, 00918-1920, telephone (787) 766-5926, at least five days prior to the meeting date.

Dated: April 8, 2009
Tracey L. Thompson,
Acting Director, Office of Sustainable Fisheries, National Marine Fisheries Service.

[FR Doc. E9-8364 Filed 4-10-09; 8:45 am]

BILLING CODE 3510-22-S